DEPARTMENT OF DEFENSE

Department of the Navy

Meeting of the Chief of Naval Operations Executive Panel

AGENCY: Department of the Navy, DoD.

ACTION: Notice of closed meeting.

SUMMARY: The Chief of Naval Operations (CNO) Executive Panel will report on the findings and recommendations of the Navy Civilian Workforce Subcommittee to the Chief of Naval Operations. The meeting will consist of the final report to Chief of Naval Operations regarding the internal personnel rules and practices supporting effective Navy civilian workforce management and will discuss anecdotal and specific personal information about individuals employed by the Department of the Navy.

DATES: The meeting will be held on September 19, 2007 from 10 a.m. to 12 p.m.

ADDRESSES: The meeting will be held in CNA Corporation Building, 4825 Mark Center Drive, Alexandria, VA 22311, 2nd Floor Idea Center.

FOR FURTHER INFORMATION CONTACT: Mr. Kip Blecher, CNO Executive Panel, 4825 Mark Center Drive, Alexandria, VA 22311, 703-681-4909.

SUPPLEMENTARY INFORMATION: Pursuant to the provisions of the Federal Advisory Committee Act (5 U.S.C. App. 2), these matters constitute sensitive information that is specifically authorized to be kept private. Accordingly, the Secretary of the Navy has determined in writing that the public interest requires that all sessions of this meeting be closed to the public because they will be concerned with matters listed in section 552b(c)(6) of Title 5, United States Code.

Individuals or interested groups interested may submit written statements for consideration by the Chief of Naval Operations Executive Panel at any time or in response to the agenda of a scheduled meeting. All requests must be submitted to the Designated Federal Officer at the address detailed below.

If the written statement is in response to the agenda mentioned in this notice, the statement must be received at least five days prior to the meeting in question in order to be considered by the Panel.

The Designated Federal Officer will review all timely submissions with the Chief of Naval Operations Executive Panel Chairperson and ensure they are provided to members of the Chief of Naval Operations Executive Panel prior to the meeting.

To contact the Designated Federal Officer, write to Executive Director, CNO Executive Panel (N00K), 4825 Mark Center Drive, 2nd Floor, Alexandria, VA 22311-1846.

T.M. Cruz,
Lieutenant, Judge Advocate General's Corps, U.S. Navy, Federal Register Liaison Officer.

[FR Doc. E7-15597 Filed 8-8-07; 8:45 am]

BILLING CODE 3810-FF-P